DEPARTMENT OF VETERANS AFFAIRS

Veterans Rural Health Advisory Committee, Notice of Meeting

The Department of Veterans Affairs (VA) gives notice under the Federal Advisory Committee Act, 5 U.S.C. Ch. 10., that the Veterans Rural Health Advisory Committee will hold its virtual meeting through TEAMS Channel on Tuesday, July 22, 2025. The meeting will convene at 11:00 a.m., Eastern Standard Time (EST) each day and adjourn at 3:00 p.m. (EST). The meeting sessions are open to the public through a meeting link online https://bit.ly/43oybqQ; or by telephone, 1-872-701-0185 (Toll) Conference ID: 337 989 820#.

The purpose of the Committee is to advise the Secretary of VA on rural health care issues affecting Veterans. The Committee examines programs and policies that impact the delivery of VA rural health care to Veterans and discusses ways to improve and enhance VA access to rural health care services for Veterans.

The agenda will include updates from Department leadership; the Executive Director, VHA Office of Rural Health; and the Committee Chair; as well as presentations by subject-matter experts on general rural health care access.

Time will be allocated for receiving public comments on July 22, 2025, from 2:30-3:00 p.m. EST. Interested parties should forward written comments to Mr. Paul Boucher, by email at paul.boucher@va.gov, or by mail to 15 Challenger Dr., Lewiston, Maine 04240. Individuals wishing to speak are invited to submit a 1-2-page summary of their comment for inclusion in the official meeting record no later than close of business on July 7, 2025. Any member of the public seeking additional information should contact Mr. Boucher at the email address noted above or 207-458-7129.

Dated: June 24, 2025.
LaTonya L. Small,
Federal Advisory Committee Management Officer.

[FR Doc. 2025-11773 Filed 6-25-25; 8:45 am]

BILLING CODE 8320-01-P